DEPARTMENT OF THE INTERIOR

Bureau of Land Management

[CO-220 1020 XQ 2527]

Front Range Resource Advisory Council (Colorado); Meeting

AGENCY: Bureau of Land Management, Interior.

ACTION: Notice of meeting.

SUMMARY: In accordance with the Federal Advisory Committee Act of 1972 (FACA), 5 U.S.C. appendix, notice is hereby given that the next meeting of the Front Range Resource Advisory Council (Colorado) will be held on July 13, 2000 in Buena Vista, Colorado.

The meeting is scheduled to begin at 9:30 a.m. at the Buena Vista Community Center, 715 E. Main Street, Buena Vista, Colorado. The focus of the meeting will be a field trip to the Fourmile area where the Fourmile Travel Management planning is in progress.

The Resource Advisory Council meeting is open to the public, however they will need to provide their own transportation for the field trip. A Four-wheel drive vehicle is recommended. Interested persons may make oral statements to the Council at 9:45 a.m. or written statements may be submitted for the Council's consideration. The Center Manager may limit the length of oral presentations depending on the number of people wishing to speak.

DATES: The meeting is scheduled for Thursday, July 13, 2000 from 9:30 a.m. to 4 p.m.

ADDRESSES: Bureau of Land Management (BLM), Front Range Center, 3170 East Main Street, Canon City, Colorado 81212

CONTACT: For further information contact Ken Smith at (719)269-8500

SUPPLEMENTARY INFORMATION: Summary minutes for the Council meeting will be maintained in the Canon City Center and will be available for public inspection and reproduction during regular business hours within thirty (30) days following the meeting.

Dated: June 20, 2000.
Kenneth L. Smith,
Acting Front Range Center Manager.

[FR Doc. 00-16144 Filed 6-26-00; 8:45 am]

BILLING CODE 4310-JB-P